DEPARTMENT OF JUSTICE

Office of Juvenile Justice and Delinquency Prevention

[OJP (OJJDP)-1400]

Proposed Program Plan for the Missing and Exploited Children's Program for Fiscal Year 2002

AGENCY: Office of Juvenile Justice and Delinquency Prevention, Office of Justice Programs, Justice.

ACTION: Notice of proposed program plan for Missing and Exploited Children's Program for fiscal year 2002.

SUMMARY: The Office of Juvenile Justice and Delinquency Prevention is publishing this notice of its Proposed Program Plan for the Missing and Exploited Children's Program for fiscal year (FY) 2002, and soliciting public comments on the overall plan and priorities. After analyzing the public comments, OJJDP will issue the Final Program Plan for the FY 2002 Missing and Exploited Children's Program.

DATES: Comments must be received on or before June 3, 2002.

ADDRESSES: Comments should be mailed to Terrence S. Donahue, Acting Administrator, Office of Juvenile Justice and Delinquency Prevention, 810 Seventh Street, NW., Washington, DC 20531. In the lower left hand corner of the envelope clearly write, “Proposed Program Plan for the Missing and Exploited Children's Program Comments.”

FOR FURTHER INFORMATION CONTACT: Ronald C. Laney, Director, Child Protection Division, 202-616-3637. [This is not a toll-free number.]

SUPPLEMENTARY INFORMATION: The Missing and Exploited Children's Program is administered by the Office of Juvenile Justice and Delinquency Prevention (OJJDP), a component of the Office of Justice Programs in the U.S. Department of Justice. Pursuant to the provisions of Section 406(a)(2) of the Juvenile Justice and Delinquency Prevention (JJDP) Act of 1974, as amended, 42 U.S.C. 5776, the Acting Administrator of OJJDP is publishing for public comment a Proposed Program Plan for activities authorized by Title IV of the JJDP Act, the Missing Children's Assistance Act, 42 U.S.C. 5771 et seq., that OJJDP proposes to initiate or continue in FY 2002. Taking into consideration comments received on this Proposed Program Plan, the Acting Administrator will develop and publish a Final Program Plan describing the program activities OJJDP intends to fund during FY 2002 using Title IV funds.

Except for programs earmarked by Congress, notices of solicitations for competitive grant applications described in the Final Program Plan will be published in the Federal Register at a later date. No proposals, concept papers, or other types of applications should be submitted in response to this proposed plan.

Background

For the purposes of Title IV, the term “missing children” refers to children who have been abducted by either a family or nonfamily member, and includes both children who have been abducted within the United States and those who have been abducted from the United States and taken to or illegally retained in a foreign country. The term “child exploitation” refers to any criminal activity that focuses on children as sexual objects and includes sexual abuse, child pornography, and prostitution.

Introduction to the Fiscal Year 2002 Proposed Program Plan

In 1984, Congress enacted the Missing Children's Assistance Act, which established the Missing and Exploited Children's Program (MECP) within OJJDP. Under the Act, MECP is responsible for (1) coordinating Federal activities designed to help missing and exploited children; (2) providing a national resource center and clearinghouse; and (3) supporting research, training, technical assistance, and demonstration programs that enhance the Nation's overall response to missing children and their families.

In FY 2001, MECP made significant advances in the course of meeting its responsibilities to provide services to children, parents, educators, prosecutors, law enforcement, and other professionals and persons working on child safety issues. Some of MECP's notable accomplishments are summarized below.

• MECP chairs the Federal Agency Task Force on Missing and Exploited Children as part of its coordination responsibilities. In FY 2001, the task force continued to focus on enhancing and coordinating the U.S. response to international child abduction. The task force developed a parent-to-parent guide that provides important information to families seeking the return of children abducted to or illegally retained in foreign countries, and a publication designed to assist law enforcement officers who investigate international parental abductions. Both publications are expected to be available in the spring of 2002.

• In FY 2001, OJJDP's Internet Crimes Against Children (ICAC ) Task Force added 41 new ICAC Investigative Satellites to the 30 regional task forces, and it now provides forensic, investigative, and prevention services in 35 States. Through the ICAC program, more than 140 State and local law enforcement agencies have developed multijurisdictional and multiagency responses to the online victimization of children. Since the program was developed in 1998, task force agencies have issued more than 1,021 search warrants and 1,080 subpoenas, seized more than 900 computers, provided training to prosecutors and law enforcement officers, and reached thousands of children, parents, and educators with information about safe online practices for children and teenagers.

• In FY 2001, the National Center for Missing and Exploited Children's (NCMEC's) CyberTipline reached the 23,000-report mark and played an increasingly important role in ensuring that reports of suspicious online activity made by children, parents, and private citizens were received by the appropriate law enforcement agencies. NCMEC expanded its Protecting Children Online training program by adding a course tailored to the specific needs of State and local prosecutors, and it provided this training to more than 1,421 law enforcement unit commanders and prosecutors.

• In FY 2001, through a cooperative agreement with Fox Valley Technical College (FVTC), OJJDP provided training and technical assistance to more than 11,725 prosecutors and professionals in law enforcement and social, health, and family services. FVTC integrates current research, state-of-the-art practice and knowledge, and new technologies into courses designed to increase skills and abilities, enhance service coordination and delivery, and improve the investigation and handling of cases involving missing and exploited children. In FY 2001, FVTC also provided specialized technical assistance to State and local practitioners and juvenile justice agencies. This technical assistance addressed Internet crimes against children, information sharing, response planning, child protection legislation, and development of multidisciplinary teams. In FY 2000, FVTC completed the development of a new child fatality investigative course that improves the way child deaths are investigated.

• Finally, John Ashcroft, Attorney General, participated in the annual Missing Children's Day Ceremony to commemorate America's missing children and to recognize the extraordinary efforts made by law enforcement officers who work to reunite children with their families. The Attorney General presented the NCMEC Law Enforcement Officer of the Year Award to Postal Inspector David Dermeyer of the U.S. Postal Inspection Service in Memphis, TN; Postal Inspector Rey Santiago of the U.S. Postal Inspection Service in Tulsa, OK; and Detective Liz Eagan of the Tulsa, OK, Police Department.

Fiscal Year 2002 Programs

In FY 2002, OJJDP proposes to continue its concentration on national programs that promote awareness of and enhance the Nation's response to missing and exploited children and their families. Although no funds are available for new programs in FY 2002, OJJDP is interested in obtaining input from the field on program and service needs to help plan programming for both FY 2002 and the future.

Fiscal Year 2002 Program Listing

National Resource Center and Clearinghouse

Internet Crimes Against Children Regional Task Force Program

Missing and Exploited Children's Training and Technical Assistance Program

National Crime Information Center

NISMART 2

Jimmy Ryce Law Enforcement Training Center Program

Missing and Exploited Children Non-Profit Organizations and Family Support Program

National Center on Child Fatality Review

National Child Victimization Conference Support

Continuation Programs

The FY 2002 Title IV continuation programs are summarized below. Available funds, implementation sites, and other descriptive information are subject to change based on the plan review process, grantee performance, application quality, fund availability, and other factors.

National Resource Center and Clearinghouse

In FY 2001, Congress provided funding to continue and expand the programs, services, and activities of NCMEC, a national resource center and clearinghouse dedicated to missing and exploited children and their families. As provided in Title IV, the functions of the Center include, but are not limited to, the following:

• Providing a toll-free hotline (800-843-5678) that citizens can use to report investigative leads and that parents and other interested individuals can use to receive information about missing children.

• Providing technical assistance to parents, law enforcement agencies, and other agencies working on issues involving missing and exploited children.

• Promoting information sharing and providing technical assistance by networking with regional nonprofit organizations, State missing children clearinghouses, and law enforcement agencies.

• Developing publications that contain practical, timely information.

• Providing information regarding programs that offer free or low-cost transportation services to help reunite children with their families.

In FY 2001, NCMEC's toll-free hotline received more than 155,000 calls, ranging from citizens reporting information about missing children to parents and law enforcement officers requesting information and publications. NCMEC also assisted in the recovery of hundreds of children, disseminated millions of photographs of missing children, and sponsored a national training workshop for State missing children clearinghouses and relevant nonprofit organizations. NCMEC also assisted the U.S. Department of State in carrying out its Hague Convention responsibilities by processing incoming applications for children abducted to the United States, and by broadening its efforts to recover American children abducted to foreign countries.

In FY 2001, NCMEC continued to perform functions associated with the national resource center and clearinghouse, and it broadened the Protecting Children Online training program with additional courses for prosecutors. In cooperation with the Federal Bureau of Investigation (FBI), NCMEC released Child Molesters: A Behavioral Analysis, a publication designed to help law enforcement officers investigate the sexual exploitation of children by acquaintance molesters.

A 1-year cooperative agreement will be awarded to NCMEC in FY 2002. The award will enable NCMEC to continue the functions of the national resource center and clearinghouse and the operation of the Jimmy Ryce Law Enforcement Training Center, which provides training to improve investigative responses to cases involving missing children. No additional applications will be solicited in FY 2002.

Internet Crimes Against Children Regional Task Force Program

In FY 2001, 41 new awards were given to jurisdictions interested in participating in the ICAC Task Force Program Investigative Satellite Initiative (ISI), which broadens the impact of the ICAC Task Force Program by augmenting the forensic and investigative capacities of smaller State and local law enforcement agencies. Under ISI, agencies lacking the resources to establish full-time regional task forces may still acquire OJJDP funds to train and equip local officers to respond to child pornography and cyber-enticement cases.

Other FY 2001 ICAC Task Force Program activities included partnering with SEARCH Group, Inc., of Sacramento, CA, to deliver a hands-on investigative course and a national 3-day training workshop that focused on emerging technology and its relevance to criminal activities and ICAC investigative efforts.

In FY 2002, OJJDP will continue to fund the 30 regional ICAC Task Forces and will solicit applications for new regional sites in FY 2002.

Missing and Exploited Children's Training and Technical Assistance Program

In FY 1998, FVTC was awarded a cooperative agreement to provide training and technical assistance to law enforcement officers, prosecutors, and health and family services professionals. The Missing and Exploited Children's Training and Technical Assistance Program is designed to ensure that professionals working on issues involving missing and exploited children receive up-to-date, practical training and technical assistance. Training focuses on investigative techniques, interview strategies, comprehensive response planning, media relations, lead and case management, and other topics related to missing and exploited children cases.

The Missing and Exploited Children's Training and Technical Assistance Program offers five courses: Responding to Missing and Abducted Children, Child Sexual Exploitation Investigations, Child Abuse and Exploitation Investigative Techniques, Child Fatality Investigations, and Child Abuse and Exploitation Team Investigation Process. In addition to offering these courses, FVTC provides technical assistance and support to the Federal Agency Task Force on Missing and Exploited Children and its related subcommittees; develops documents and publications related to missing and exploited children; convenes special focus groups or meetings to facilitate communication and problem solving among youth service workers and professionals at the Federal, State, and local levels; and performs special projects, as directed by OJJDP. These special projects include designing protocols for handling and responding to cases involving missing and exploited children, establishing a response planning system, and conducting a case review of child protection legislation. No additional applications will be solicited in FY 2002.

National Crime Information Center

The ability to verify National Crime Information Center (NCIC) entries, communicate with law enforcement through the Interstate Law Enforcement Telecommunication System, and be notified of life-threatening cases through the NCIC flagging system, is crucial to NCMEC's mission. OJJDP proposes to continue to transfer funds to the Department of Justice's Justice Management Division through a reimbursable agreement to continue NCMEC's online access to the FBI's Wanted and Missing Persons files through NCIC. No additional applications will be solicited in FY 2002.

NISMART 2

Under the Missing Children's Assistance Act, Title IV, OJJDP is required to conduct periodic studies to assess the scope of the missing children problem in the United States. The original National Incidence Studies of Missing, Abducted, Runaway, and Thrownaway Children (NISMART 1) was conducted in 1988, with results published in 1990. In FY 1995, OJJDP funded NISMART 2, the second national study to measure the incidence of each category of missing children. Temple University received funding in FY 1995 to conduct the study, which builds on the strengths and addresses some of the weaknesses of NISMART 1. Temple University has contracted with the University of New Hampshire Survey Research Laboratory and Westat, Inc., to implement specific components of the study and provide extensive background knowledge about the particulars of NISMART 1. Specifically, NISMART 2 will do the following:

• Revise and enhance NISMART 1 definitions.

• Survey approximately 23,000 households by telephone to determine how many children are missing on an annual basis.

• Survey law enforcement agencies to determine the annual frequency of child abductions.

• Survey approximately 10,000 youth by telephone to understand what happens during missing children episodes.

• Interview directors of residential facilities and institutions to determine how many residents run away.

• Analyze data on thrownaway children from a related survey of community professionals.

The findings from these surveys will provide updated annual estimates on the number of missing children in the United States. Preliminary findings will be available in the summer of 2002, and a final report will be completed by the end of FY 2002. An OJJDP Bulletin that documents the scope of the research, definition revisions, and methodology changes was published in FY 2000.

OJJDP support for NISMART 2 will continue in FY 2002. No additional applications will be solicited in FY 2002.

Jimmy Ryce Law Enforcement Training Center Program

In FY 1997, OJJDP, in partnership with NCMEC, the FBI, and FVTC, developed and implemented the Jimmy Ryce Law Enforcement Training Center (JRLETC) program. JRLETC offers two law enforcement training tracks designed to improve the national investigative response to cases involving missing children.

JRLETC's Chief Executive Officer (CEO) seminars examine cases involving missing children from a management perspective and offer information about coordination and communication issues, resource assessment, legal concerns, and policy development for police chiefs and sheriffs. The Responding to Missing and Abducted Children (REMAC) course offers modules that focus on comprehensive investigative techniques for cases involving missing children. In FY 2001, 1,864 police chiefs and sheriffs participated in the CEO training and 319 law enforcement officers participated in REMAC.

Congress appropriated $2.3 million in FY 2001 to continue the operation of JRLETC. To respond to the numerous requests for additional assistance from JRLETC graduates, OJJDP, NCMEC, the FBI, and FVTC will continue to provide training and technical assistance through both JRLETC and the onsite technical assistance program.

Under the JRLETC appropriation, OJJDP awarded $300,000 to FVTC to support regional REMAC courses; the remaining $2 million supported NCMEC's CEO seminars and onsite technical assistance program. No additional applications will be solicited in FY 2002.

Missing and Exploited Children Non-Profit Organizations and Family Support Program

The goal of the Missing and Exploited Children Non-Profit Organizations (NPOs) and Family Support Program is to establish a national nonprofit association to (1) provide oversight to a minimum of 25 missing and exploited children NPOs, and (2) develop a mentoring program that provides one-on-one support to parents of missing children. In FY 2001, MECP solicited applications through a competitive process, four applications were received, and the Association of Missing and Exploited Children's Organizations (AMECO) was selected to receive the award. AMECO will provide ongoing oversight, support, and assistance to missing and exploited children NPOs to improve the quality of services for missing and exploited children and their families and to provide ongoing support and parent-to-parent/one-on-one assistance to families of children who have been exploited, abducted, or who are otherwise missing. No additional applications will be solicited in FY 2002.

National Center on Child Fatality Review

In FY 1997, OJJDP awarded a noncompetitive award to the National Center on Child Fatality Review (NCCFR) in Los Angeles, CA. NCCFR received the award to develop State and local uniform reporting definitions and generic protocols for child fatality review teams that could be considered by communities working to enhance their investigations of child deaths.

NCCFR developed a model for integrating data among the Criminal Justice, Vital Statistics, and Social Services Child Abuse Indices. NCCFR also selected a National Advisory Board composed of representatives from across the country and from relevant disciplines.

In FY 2002, OJJDP will continue to support NCCFR if funds are available. No additional applications will be solicited in FY 2002.

National Child Victimization Conference Support

If funds are available, OJJDP proposes to provide funding in FY 2002 for national conferences that focus on child abduction, exploitation, and victimization issues. This funding support would include conferences sponsored by the National Children's Advocacy Center, the Dallas Police Department and Children's Advocacy Center, the American Professional Society on the Abuse of Children, the Center for Child Protection, and the San Diego Conference on Responding to Child Maltreatment. No additional applications will be solicited in FY 2002.

Dated: March 29, 2002.
Terrence S. Donahue,
Acting Administrator, Office of Juvenile Justice and Delinquency Prevention.

[FR Doc. 02-8054 Filed 4-2-02; 8:45 am]

BILLING CODE 4410-18-P